DEPARTMENT OF COMMERCE

Foreign-Trade Zones Board

Order No. 1457

Approval of Request for Manufacturing Authority Within Foreign-Trade Zone 50, Ontario, California, (Radio Transceivers)

Pursuant to its authority under the Foreign-Trade Zones Act of June 18, 1934, as amended (19 U.S.C. 81a-81u), the Foreign-Trade Zones Board (the Board) adopts the following Order:

Whereas, Metro International Trade Services LLC operator of FTZ 50 submitted an application to the Board on behalf of the Board of Harbor Commissioners of the City of Long Beach (California), grantee of FTZ 50, for manufacturing authority (radio transceivers) within Site 2 of FTZ 50 for Maney Aircraft, Inc. (FTZ Docket 37-2004; filed 8/19/2004);

Whereas, notice inviting public comment was given in the Federal Register (69 FR 52855-52856, 8/30/2004) and the application has been processed pursuant to the FTZ Act and the Board's regulations; and,

Whereas, the Board adopts the findings and recommendations of the examiner's report, and finds that the requirements of the FTZ Act and Board's regulations are satisfied, and that the proposal is in the public interest;

Now, therefore, the Board hereby orders:

Manufacturing authority for radio transceivers within FTZ 50 for Maney Aircraft, Inc., as described in the application and Federal Register notice, is approved, subject to the FTZ Act and the Board's regulations, including Section 400.28.

Signed at Washington, DC, this 16th day of June 2006.

David M. Spooner,
Assistant Secretary of Commerce for Import Administration, Alternate Chairman, Foreign-Trade Zones Board.
Attest:
Pierre V. Duy,
Acting Executive Secretary.

[FR Doc. E6-10221 Filed 6-28-06; 8:45 am]

BILLING CODE 3510-DS-S